ADVISORY COUNCIL ON HISTORIC PRESERVATION

Advisory Council on Historic Preservation; Notice of Meeting

SUMMARY: Notice is hereby given that the Advisory Council on Historic Preservation (ACHP) will meet on Friday, February 18, 2005. The meeting will be held in the Portola Room, Portola Plaza Hotel, 2 Portola Plaza, Monterey, California, beginning at 9 a.m.

The ACHP was established by the National Historic Preservation Act of 1966 (16 U.S.C. 470 et seq.) to advise the President and the Congress on matters relating to historic preservation and to comment upon Federal, federally assisted, and federally licensed undertakings having an effect upon properties listed in or eligible for inclusion in the National Register of Historic Places. The ACHP's members are the Architect of the Capitol; the Secretaries of the Interior, Agriculture, Defense, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome

II. Preserve America Community Recognition and Chairman's Awards Presentation

III. Preserve America Program Development

A. Program Status Report

B. Consideration of Preserve America Future Action Plan

C. Review of Federal Agency Section 3 Reports

IV. California Heritage Tourism Issues

V. Report of the Executive Committee

A. ACHP FY 2006 Budget Request

VI. Report of the Preservation Initiatives Committee

A. Heritage Tourism Initiatives

B. Historic Preservation Tax Issues

VII. Report of the Federal Agency Programs Committee

A. Interstate Highway System Exemption

B. U.S. Forest Service Off-Highway Vehicles Policy

C. Nationwide Tribal Notification Strategy

VIII. Report of the Communications, Education, and Outreach Committee

A. ACHP Strategies for Forming New Preserve America Alliances

IX. Consideration of Foreclosure of ACHP Comment by the Bureau of Indian Affairs, Route 4 Improvements, South Dakota

X. Report of the Archaeology Task Force

XI. Chairman's Report

A. ACHP Alumni Foundation

B. Legislative Issues

1. ACHP Reauthorization

C. Native American Advisory Group

XII. Executive Director's Report

A. Staff Resources and Communications

XIII. New Business

A. HUD Proposal for Affordable Housing Initiative

B. 2005 ACHP Business Meeting Schedule

XIV. Adjourn

Note: The meeting of the ACHP are open to the public. If you need special accommodations due to a disability, please contact the Advisory Council on Historic Preservation, 1100 Pennsylvania Avenue, NW., Room 809, Washington, DC, 202-606-8503, at least seven (7) days prior to the meeting.

FOR FURTHER INFORMATION CONTACT: Additional information concerning the meeting is available from the Executive Director, Advisory Council on Historic Preservation, 1100 Pennsylvania Avenue, NW., #809, Washington, DC 20004.

Dated: February 10, 2005.
John M. Fowler,
Executive Director.

[FR Doc. 05-2914 Filed 2-14-05; 8:45 am]

BILLING CODE 4310-10-M